DEPARTMENT OF COMMERCE

National Oceanic and Atmospheric Administration

50 CFR Part 648

[Docket No. 041221358-5065-02; I.D. 062205A]

Fisheries of the Northeastern United States; Atlantic Mackerel, Squid, and Butterfish Fisheries; Adjustment of the Quarter III Quota Allocation for Loligo Squid

AGENCY: National Marine Fisheries Service (NMFS), National Oceanic and Atmospheric Administration (NOAA), Commerce.

ACTION: Temporary rule; quota adjustment.

SUMMARY: NMFS announces that it has adjusted the commercial quota allocation for the Quarter III fishery for Loligo squid in the Exclusive Economic Zone (EEZ). The regulations for the Atlantic mackerel, squid and butterfish fisheries require this adjustment to be made if landings in the Quarter I fishery exceed the commercial quota allocated to that period. This action is necessary to prevent the fishery from exceeding the annual commercial quota and to allow for effective management of this stock.

DATES: Effective 0001 hours, July 1, 2005, through 2400 hours, September 30, 2005.

FOR FURTHER INFORMATION CONTACT: Eric Dolin, Fishery Policy Analyst, 978-281-9259, Fax 978-281-9135.

SUPPLEMENTARY INFORMATION: Regulations governing the Loligo squid fishery are found at 50 CFR part 648. The regulations require annual specifications for maximum sustainable yield, initial optimum yield, allowable biological catch, domestic annual harvest (DAH), domestic annual processing, joint venture processing and total allowable levels of foreign fishing for the species managed under the Atlantic Mackerel, Squid, and Butterfish Fishery Management Plan. The procedures for setting the annual initial specifications are described in § 648.21.

The final rule for the 2005 annual specifications was published on March 21, 2005 (70 FR 13406). After allocating 255.1 mt (562,399 lb) for research set-aside, the remaining 2005 annual quota for Loligo squid of 16,744.9 mt (36,916,191 lb) was allocated to quarters, as shown below.

Table. 1. Initial Loligo Squid Quarterly Allocations*
Quarter | Percent | Metric Tons | Pounds
I (Jan-Mar) | 33.23 | 5,564.3 | 12,267,184
II(Apr-Jun) | 17.61 | 2,948.8 | 6,500,992
III(Jul-Sep) | 17.3 | 2,896.9 | 6,386,572
IV(Oct-Dec) | 31.86 | 5,334.9 | 11,761,443
Total | 100 | 16,744.9 | 36,916,191
*Quarterly allocations after 255.1 mt research set-aside deduction.

Section 648.21 requires NMFS to determine if landings in Quarter I result in a quota overage, and to deduct any overage from the quota allocation for Quarter III. The Quarter I quota allocation was 5,564.3 mt (12,267,184 lb). Based on dealer reports and other available information, NMFS has determined that landings in Quarter I were 7,659.8 mt (16,887,113 lb). The Quarter III allocation has been reduced by 2,095.5 mt (4,619,929 lb), resulting in an adjusted allocation of 801.3 mt (1,766,643 lb).

Classification

This action is required by 50 CFR part 648 and is exempt from review under Executive Order 12866.

Authority: 16 U.S.C. 1801 et seq.

Dated: June 22, 2005.
Alan D. Risenhoover,
Acting Director, Office of Sustainable Fisheries, National Marine Fisheries Service.

[FR Doc. 05-12743 Filed 6-23-05; 2:57 pm]

BILLING CODE 3510-22-S